FEDERAL ELECTION COMMISSION

Sunshine Act Meetings

AGENCY: Federal Election Commission.

DATE AND TIME: Thursday, December 1, 2016 at 10:00 a.m.

PLACE: 999 E Street NW., Washington, DC (Ninth Floor)

STATUS: This meeting will be open to the public.

ITEMS TO BE DISCUSSED:

Draft Advisory Opinion 2016-20: Christoph Mlinarchik, JD, CFCM.

Draft Advisory Opinion 2016-21: Great America PAC.

Proposed Amendments to Directive 52.

Proposed Final Audit Report on the Utah Republican Party (A13-16).

2016 Legislative Recommendations.

Management and Administrative Matters.

Individuals who plan to attend and require special assistance, such as sign language interpretation or other reasonable accommodations, should contact Shelley E. Garr, Deputy Secretary, at (202) 694-1040, at least 72 hours prior to the meeting date.

PERSON TO CONTACT FOR INFORMATION: Judith Ingram, Press Officer, Telephone: (202) 694-1220.

Shelley E. Garr,
Deputy Secretary of the Commission.

[FR Doc. 2016-28727 Filed 11-23-16; 4:15 pm]

BILLING CODE 6715-01-P